DEPARTMENT OF TRANSPORTATION

Federal Aviation Administration

14 CFR Part 39

[Docket No. FAA-2026-2287; Project Identifier MCAI-2025-01208-E]

RIN 2120-AA64

Airworthiness Directives; Rolls-Royce Deutschland Ltd & Co KG Engines

AGENCY: Federal Aviation Administration (FAA), DOT.

ACTION: Notice of proposed rulemaking (NPRM).

SUMMARY: The FAA proposes to supersede Airworthiness Directive (AD) 2020-06-16, which applies to certain Rolls-Royce Deutschland Ltd & Co KG (RRD) Model RB211 Trent 768-60, 772-60, and 772B-60 engines. AD 2020-06-16 requires initial and repetitive ultrasonic inspections (UIs) of the affected low-pressure compressor (LPC) blades and, depending on the results of the UIs, replacement with a part eligible for installation. Since the FAA issued AD 2020-06-16, RRD issued updated service material providing improvements to the ultrasonic inspection procedures and updated initial inspection compliance times. This proposed AD would continue to require initial and repetitive UIs of the affected LPC blades for sub-surface anomalies and, depending on the results of the UIs, replacement with a part eligible for installation. The FAA is proposing this AD to address the unsafe condition on these products.

DATES: The FAA must receive comments on this NPRM by April 17, 2026.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2026-2287; or in person at Docket Operations between 9 a.m. and 5 p.m., Monday through Friday, except Federal holidays. The AD docket contains this NPRM, the mandatory continuing airworthiness information (MCAI) any comments received, and other information. The street address for Docket Operations is listed above.

Material Incorporated by Reference:

• For European Union Aviation Safety Agency (EASA) material identified in this proposed AD, contact EASA, Konrad-Adenauer-Ufer 3, 50668 Cologne, Germany; phone: +49 221 8999 000; email: ADs@easa.europa.eu; website: easa.europa.eu. You may find this material on the EASA website at ad.easa.europa.eu.

• You may view this material at the FAA, Airworthiness Products Section, Operational Safety Branch, 1200 District Avenue, Burlington, MA 01803. For information on the availability of this material at the FAA, call (817) 222-5110.

FOR FURTHER INFORMATION CONTACT: Alexis Whitaker, Aviation Safety Engineer, FAA, 2200 South 216th Street, Des Moines, WA 98198; phone: (516) 228-7309; email: alexis.j.whitaker@faa.gov.

SUPPLEMENTARY INFORMATION:

Comments Invited

The FAA invites you to send any written relevant data, views, or arguments about this proposal. Send your comments using a method listed under ADDRESSES. Include “Docket No. FAA-2026-2287; Project Identifier MCAI-2025-01208-E” at the beginning of your comments. The most helpful comments reference a specific portion of the proposal, explain the reason for any recommended change, and include supporting data. The FAA will consider all comments received by the closing date and may amend the proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Alexis Whitaker, Aviation Safety Engineer, FAA, 2200 South 216th Street, Des Moines, WA 98198. Any commentary that the FAA receives which is not specifically designated as CBI will be placed in the public docket for this rulemaking.

Background

The FAA issued AD 2020-06-16, Amendment 39-19885 (85 FR 17738, March 31, 2020) (AD 2020-06-16), for RRD Model RB211 Trent 768-60, 772-60, and 772B-60 engines with LPC blade having part number (P/N) FK23411, FK25441, FK25968, FW11901, FW15393, FW23643, FW23741, FW23744, KH23403, or KH23404, installed. AD 2020-06-16 was prompted by an MCAI originated by EASA, which is the Technical Agent for the Member States of the European Union. EASA issued AD 2018-0188R1, dated September 5, 2021 (EASA AD 2018-0188R1) to correct an unsafe condition identified as LPC blade airfoil separation.

AD 2020-06-16 requires initial and repetitive UIs of the affected LPC blades and, depending on the results of the UIs, their replacement with a part eligible for installation. The FAA issued AD 2020-06-16 to prevent LPC blade airfoil separation.

Actions Since AD 2020-06-16 Was Issued

Since the FAA issued AD 2020-06-16, EASA superseded EASA AD 2018-0188R1 and issued a series of ADs, each superseding the previous one, with the latest one being EASA AD 2025-0144, dated July 9, 2025 (EASA AD 2025-0144) (also referred to as the MCAI). Since EASA AD 2018-0188R1 was published, RRD published updated service material with improved instructions for the UIs of the affected LPC blades and updated initial inspection compliance times. The MCAI states that occurrences have been reported of LPC partial airfoil blade release events on RRD Model Trent 700 engines. To address this potential unsafe condition, the MCAI requires repetitive UIs of the affected LPC blades, and depending on the results of the UIs, replacement with a part eligible for installation.

You may examine the MCAI in the AD docket at regulations.gov under Docket No. FAA-2026-2287.

Material Incorporated by Reference Under 1 CFR Part 51

The FAA reviewed EASA AD 2025-0144, which specifies procedures for performing an ultrasonic inspection of the LPC blade for sub-surface anomalies, and replacement, if necessary.

This material is reasonably available because the interested parties have access to it through their normal course of business or by the means identified in the ADDRESSES section.

FAA's Determination

These products have been approved by the civil aviation authority (CAA) of another country and are approved for operation in the United States. Pursuant to the FAA's bilateral agreement with this State of Design Authority, that authority has notified the FAA of the unsafe condition described in the MCAI referenced above. The FAA is issuing this NPRM after determining that the unsafe condition described previously is likely to exist or develop on other products of the same type design.

Proposed AD Requirements in This NPRM

This proposed AD would retain none of the requirements of AD 2020-06-16. This proposed AD would require the actions specified in EASA AD 2025-0144, described previously, as incorporated by reference, except for any differences identified as exceptions in the regulatory text of this proposed AD. See “Differences Between this Proposed AD and the MCAI” for a discussion of the general differences included in this AD.

Differences Between This Proposed AD and the MCAI

Where EASA AD 2025-0144 applies to RRD Model RB211 Trent 772C-60 engines this proposed AD does not, as these engines do not have an FAA type certificate.

Where EASA AD 2025-0144 removes LPC part numbers FK25441, FK25968, FW11901, FW15393 from the affected parts list, this proposed AD includes these part numbers in the applicability in the event that any of these parts remain in service.

Explanation of Required Compliance Information

In the FAA's ongoing efforts to improve the efficiency of the AD process, the FAA developed a process to use some civil CAA ADs as the primary source of information for compliance with requirements for corresponding FAA ADs. The FAA has been coordinating this process with manufacturers and CAAs. As a result, the FAA proposes to incorporate EASA AD 2025-0144 by reference in the FAA final rule. This proposed AD would, therefore, require compliance with EASA AD 2025-0144 in its entirety through that incorporation, except for any differences identified as exceptions in the regulatory text of this proposed AD. Using common terms that are the same as the heading of a particular section in EASA AD 2025-0144 does not mean that operators need comply only with that section. For example, where the AD requirement refers to “all required actions and compliance times,” compliance with this AD requirement is not limited to the section titled “Required Action(s) and Compliance Time(s)” in EASA AD 2025-0144. Material required in EASA AD 2025-0144 for compliance will be available at regulations.gov under Docket No. FAA-2026-2287 after the FAA final rule is published.

Costs of Compliance

The FAA estimates that this AD, if adopted as proposed, would affect 140 engines installed on airplanes of U.S. registry.

The FAA estimates the following costs to comply with this proposed AD:

Estimated Costs
Action | Labor cost | Parts cost | Cost per product | Cost on U.S. operators
Inspect LPC blade | 37 work-hours × $85 per hour = $3,145 | $0 | $3,145 | $440,300

The FAA estimates the following costs to do any necessary replacements that would be required based on the results of the proposed inspection. The agency has no way of determining the number of engines that might need these replacements:

On-Condition Costs
Action | Labor cost | Parts cost | Cost per product
Replace one LPC blade | 6 work-hours × $85 per hour = $510 | $225,000 | $225,510

Authority for This Rulemaking

Title 49 of the United States Code specifies the FAA's authority to issue rules on aviation safety. Subtitle I, section 106, describes the authority of the FAA Administrator. Subtitle VII, Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2020-06-16, Amendment 39-19885 (85 FR 17738, March 31, 2020); and

b. Adding the following new airworthiness directive:

Rolls-Royce Deutschland Ltd & Co KG: Docket No. FAA-2026-2287; Project Identifier MCAI-2025-01208-E.

(a) Comments Due Date

The FAA must receive comments on this airworthiness directive (AD) by April 17, 2026.

(b) Affected ADs

This AD replaces AD 2020-06-16, Amendment 39-19885 (85 FR 17738, March 31, 2020).

(c) Applicability

This AD applies to all Rolls-Royce Deutschland Ltd & Co KG (RRD) Model RB211 Trent 768-60, 772-60, and 772B-60 engines, with a low-pressure compressor (LPC) blade having part number (P/N) FK23411, FK25441, FK25968, FW11901, FW15393, FW23643, FW23741, FW23744, KH23403, KH23404, or LV11570, installed.

(d) Subject

Joint Aircraft System Component (JASC) Code 7230, Turbine Engine Compressor Section.

(e) Unsafe Condition

This AD was prompted by reports of LPC partial airfoil blade release events. The FAA is issuing this AD to prevent LPC blade airfoil separation. The unsafe condition, if not addressed, could result in engine nose cowl loss, under cowl fires, forward projection of secondary debris, damage to the engine, damage to the airplane, and injury to persons on the ground.

(f) Compliance

Comply with this AD within the compliance times specified, unless already done.

(g) Required Actions

Except as specified in paragraphs (h) and (i) of this AD: Perform all required actions within the compliance times specified in, and in accordance with, European Union Aviation Safety Agency (EASA) AD 2025-0144, dated July 9, 2025 (EASA AD 2025-0144).

(h) Exceptions to EASA AD 2025-0144

(1) Where EASA AD 2025-0144 refers to its effective date, this AD requires using the effective date of this AD.

(2) Where the Groups definition in EASA AD 2025-0144 specifies “NMSB”, this AD requires replacing that text with “RR Alert NMSB RB.211-72-AL191, Initial Issue, dated May 30, 2025”.

(3) Where the definition of an affected part in EASA AD 2025-0144 specifies “Part Number (P/N) FK23411, FW23643, FW23741, FW23744, KH23403, KH23404 or P/N LV11570,” this AD requires replacing that text with “P/N FK23411, FW23643, FW23741, FW23744, FK25441, FK25968, FW11901, FW15393, KH23403, KH23404, or LV11570, installed”.

(4) This AD does not adopt the “Remarks” paragraph of EASA AD 2025-0144.

(i) No Reporting Requirement

Although the material referenced in EASA AD 2025-0144 specifies to submit certain information to the manufacturer, this AD does not include that requirement.

(j) Alternative Methods of Compliance (AMOCs)

(1) The Manager, AIR-520 Continued Operational Safety Branch, FAA, has the authority to approve AMOCs for this AD, if requested using the procedures found in 14 CFR 39.19. In accordance with 14 CFR 39.19, send your request to your principal inspector or local Flight Standards District Office, as appropriate. If sending information directly to the manager of the AIR-520 Continued Operational Safety Branch, send it to the attention of the person identified in paragraph (k) of this AD and email to: AMOC@faa.gov.

(2) Before using any approved AMOC, notify your appropriate principal inspector, or lacking a principal inspector, the manager of the local flight standards district office/certificate holding district office.

(k) Additional Information

For more information about this AD, contact Alexis Whitaker, Aviation Safety Engineer, FAA, 2200 South 216th Street, Des Moines, WA 98198; phone: (516) 228-7309; email: alexis.j.whitaker@faa.gov.

(l) Material Incorporated by Reference

(1) The Director of the Federal Register approved the incorporation by reference (IBR) of the material listed in this paragraph under 5 U.S.C. 552(a) and 1 CFR part 51.

(2) You must use this material as applicable to do the actions required by this AD, unless the AD specifies otherwise.

(i) European Union Aviation Safety Agency (EASA) AD 2025-0144, dated July 9, 2025.

(ii) [Reserved]

(3) For EASA material identified in this AD, contact EASA, Konrad-Adenauer-Ufer 3, 50668 Cologne, Germany; phone: +49 221 8999 000; email: ADs@easa.europa.eu; website: easa.europa.eu. You may find this material on the EASA website at ad.easa.europa.eu.

(4) You may view this material at FAA, Airworthiness Products Section, Operational Safety Branch, 1200 District Avenue, Burlington, MA 01803. For information on the availability of this material at the FAA, call (817) 222-5110.

(5) You may view this material at the National Archives and Records Administration (NARA). For information on the availability of this material at NARA, visit www.archives.gov/federal-register/cfr/ibr-locations or email fr.inspection@nara.gov.

Issued on February 26, 2026.
Peter A. White,
Deputy Director, Integrated Certificate Management Division, Aircraft Certification Service.

[FR Doc. 2026-04148 Filed 3-2-26; 8:45 am]

BILLING CODE 4910-13-P